DEPARTMENT OF THE INTERIOR

National Park Service

[NPS-WASO-NAGPRA-11439; 2200-1100-665]

Notice of Inventory Completion for Native American Human Remains and Associated Funerary Objects in the Control of Casa Grande Ruins National Monument, National Park Service, Coolidge, AZ; Correction

AGENCY: National Park Service, Interior.

ACTION: Notice; correction.

Notice is here given in accordance with the Native American Graves Protection and Repatriation Act (NAGPRA), 25 U.S.C. 3003, of the completion of an inventory of human remains and associated funerary objects in the possession of the U.S. Department of the Interior, National Park Service, Casa Grande Ruins National Monument, Coolidge, AZ. The human remains and cultural items were removed from Pinal County, AZ.

This notice is published as part of the National Park Service's administrative responsibilities under NAGPRA, 25 U.S.C. 3003 (d)(3). The determinations in this notice are the sole responsibility of the Superintendent, Casa Grande Ruins National Monument.

This notice corrects the minimum number of individuals and associated funerary objects for a Notice of Inventory Completion previously published in the Federal Register (61 FR 10009, March 12, 1996). A reassessment of the inventory prior to repatriation revealed that some of the human remains and cultural items were removed from tribal lands prior to 1979 and were therefore not in the possession or control of the National Park Service. The U.S. Department of the Interior, Bureau of Indian Affairs asserted control over the human remains and associated funerary objects from tribal land in 2012 and will publish a Notice of Inventory Completion addressing those remains and objects.

In the Federal Register (61 FR 10009, March 12, 1996), paragraphs three through five are corrected by substituting the following paragraphs:

The Monument's collection of human remains represents a minimum of 54 Native American individuals and 55 associated funerary objects recovered from Hohokam sites within the Monument.

Human remains recovered from Hohokam sites dating between 975-1400 A.D. within the Monument boundaries comprise a minimum of 31 individuals. No known individuals were identified. The 36 associated funerary objects are 21 jars, 5 bowls, 2 pitchers, 7 sherds, and 1 jar cover.

In addition, cremations, burials, and incomplete lots of human bone representing a minimum of 23 individuals whose archeological context are unknown have also been classified as Hohokam, primarily dating to the Classic Period (1150-1400 A.D.). No known individuals were identified. The 19 associated funerary objects are 15 jars, 2 bowls, 1 sherd, and 1 bag of beads.

In the Federal Register (61 FR 10009, March 12, 1996), the first two sentences of paragraph eight are corrected by substituting the following sentences:

Based on the above mentioned information, and the consultation with the above mentioned tribes, officials of the National Park Service have determined that, pursuant to 43 CFR 10.2 (d)(1), the human remains listed above represent the physical remains of 54 individuals of Native American ancestry. National Park Service officials have determined that, pursuant to 25 U.S.C. 3001 (3)(A), the 55 objects listed above are reasonably believed to have been placed with or near individual human remains at the time of death or later as part of the death rite or ceremony.

Repatriation of the human remains and associated funerary objects occurred after the 30-day waiting period expired for the original March 12, 1996, Notice of Inventory Completion. For questions related to this notice, contact Karl Cordova, Superintendent, Casa Grande Ruins National Monument, 1100 W. Ruins Drive, Coolidge, AZ 85128, telephone (520) 723-3172.

Casa Grande Ruins National Monument is responsible for notifying the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico, that this notice has been published.

Dated: October 16, 2012.
Sherry Hutt,
Manager, National NAGPRA Program.

[FR Doc. 2012-27947 Filed 11-15-12; 8:45 am]

BILLING CODE 4312-50-P